DEPARTMENT OF LABOR

Employment and Training Administration

[NAFTA-6334]

Nortel Networks Corp., Manufacturing Operations, Billerica, Massachusetts; Amended Certification Regarding Eligibility to Apply for NAFTA-Transitional Adjustment Assistance

In accordance with section 250(a), Subchapter D, Chapter 2, Title II, of the Trade Act of 1974, as amended (19 U.S.C. 2273), the Department of Labor issued a Certification of Eligibility to Apply for NAFTA Transitional Adjustment Assistance on November 5, 2002, applicable to workers of Nortel Networks Corporation, Billerica, Massachusetts. The notice was published in the Federal Register on November 22, 2002 (67 FR 70462).

At the request of a company official, the Department reviewed the certification for workers of the subject firm. The workers produce computer network systems components. The certification was issued for all workers of Nortel Networks Corporation, Billerica, Massachusetts. New information provided by the company shows that the petition was filed on behalf of workers in the Manufacturing Operations group. Workers in this group are separately identifiable from other worker groups at the Billerica location of the firm.

It is the Department's intent to provide coverage to those workers adversely affected by the shift in production from the workers' firm to Canada. Accordingly, the certification is being amended to limit the certification to workers of Nortel Networks, Billerica, Massachusetts, Manufacturing Operations.

The amended notice applicable to NAFTA-6334 is hereby issued as follows:

Workers of Nortel Networks Corporation, Manufacturing Operations, Billerica, Massachusetts, who became totally or partially separated from employment on or after July 1, 2001, through November 5, 2004, are eligible to apply for NAFTA-TAA under section 250 of the Trade Act of 1974.

Signed in Washington, DC this 26th day of November 2002.
Richard Church,
Certifying Officer, Division of Trade Adjustment Assistance.

[FR Doc. 02-31065 Filed 12-6-02; 8:45 am]

BILLING CODE 4510-30-P